DEPARTMENT OF COMMERCE

National Oceanic and Atmospheric Administration

RIN 0648-XV113

Mid-Atlantic Fishery Management Council (MAFMC); Public Meeting

AGENCY: National Marine Fisheries Service (NMFS), National Oceanic and Atmospheric Administration (NOAA), Commerce.

ACTION: Notice of public meeting.

SUMMARY: The Mid-Atlantic Fishery Management Council (Council) will hold a webinar-based meeting with the public to provide information on options available to commercial fishing operators for electronically submitting required Vessel Trip Reports (VTRs) in the Greater Atlantic Region. This is in support of the Council's joint action with the New England Fishery Management Council that could require electronic reporting of VTRs by operators holding commercial fishing permits for species managed by either council that require the submission of VTRs.

DATES: The meeting will be held Wednesday, November 20, 2019, from 5:30 p.m. to 7:30 p.m., EST.

ADDRESSES: The meeting will be held via webinar (http://mafmc.adobeconnect.com/evtr_publicmtg/) with a telephone audio connection (provided when connecting). Audio only access via conference phone number: 1-800-832-0736; Room Number: 5765379.

Council address: Mid-Atlantic Fishery Management Council, 800 N State St., Suite 201, Dover, DE 19901; telephone: (302) 674-2331.

FOR FURTHER INFORMATION CONTACT: Christopher M. Moore, Ph.D., Executive Director, Mid-Atlantic Fishery Management Council; telephone: (302) 526-5255. The Council's website, www.mafmc.org also has details on the proposed agenda, webinar access, and briefing materials.

SUPPLEMENTARY INFORMATION: The Council is considering requiring electronic reporting of commercial fishery VTRs in a joint action with the New England Fishery Management Council. This action would change the method of transmitting VTRs—the required data elements would not change. Existing regulations requiring that VTRs be completed before arriving at the dock would not change, but the timeline for submitting electronic reports may change. This meeting will provide a review of approved electronic VTR applications, initial steps that would be necessary for commercial operators to begin reporting electronically, and a demonstration of two of the most popular electronic reporting applications (with limited time for questions) to convey information on the process involved for commercial operators to report VTRs electronically.

Special Accommodations

The meeting is physically accessible to people with disabilities. Requests for sign language interpretation or other auxiliary aid should be directed to M. Jan Saunders, (302) 526-5251, at least 5 days prior to the meeting date.

Authority: 16 U.S.C. 1801 et seq.

Dated: October 24, 2019.
Tracey L. Thompson,
Acting Deputy Director, Office of Sustainable Fisheries, National Marine Fisheries Service.

[FR Doc. 2019-23609 Filed 10-29-19; 8:45 am]

BILLING CODE 3510-22-P